DEPARTMENT OF THE INTERIOR

Bureau of Land Management

[LLCA 942000 L57000000 BX0000]

Filing of Plats of Survey: California

AGENCY: Bureau of Land Management, Interior.

ACTION: Notice.

SUMMARY: The plats of survey and supplemental plats of lands described below are scheduled to be officially filed in the Bureau of Land Management California State Office, Sacramento, California, thirty (30) calendar days from the date of this publication.

ADDRESSES: A copy of the plats may be obtained from the California State Office, Bureau of Land Management, 2800 Cottage Way, Sacramento, California 95825, upon required payment.

Protest: A person or party who wishes to protest a survey must file a notice that they wish to protest with the California State Director, Bureau of Land Management, 2800 Cottage Way, Sacramento, California, 95825.

FOR FURTHER INFORMATION CONTACT: Chief, Branch of Geographic Services, Bureau of Land Management, California State Office, 2800 Cottage Way, Room W-1623, Sacramento, California 95825, (916) 978-4310.

SUPPLEMENTARY INFORMATION: These surveys and supplemental plats were executed to meet the administrative needs of various federal agencies; the Bureau of Land Management, Bureau of Indian Affairs, General Services Administration or US Forest Service. The lands surveyed are:

Humboldt Meridian, California

T. 10 N., R. 3 E., supplemental plats of sections 3, 4, 5 and 6 accepted February 16, 2012.

T. 11 N., R. 2 E., supplemental plat of section 36 accepted February 16, 2012.

T. 11 N., R. 3 E., supplemental plats of sections 31, 32, 33 and 34 accepted February 16, 2012.

Mount Diablo Meridian, California

T. 33 N., R. 7 W., dependent resurvey and metes-and-bounds survey accepted February 22, 2012.

T. 12 N., R. 9 E., supplemental plat of the NW ¼ of section 4 accepted March 9, 2012.

T. 18 S., R. 13 E., supplemental plats of sections 33 and 34 accepted March 13, 2012.

San Bernardino Meridian, California

T. 14 N., R. 13 E., amended metes-and bounds survey of tract 37 accepted March 15, 2012.

T. 4 S., R. 4 E., supplemental plat of the NE ¼ of the SE ¼ of section 24 accepted March 21, 2012.

Authority: 43 U.S.C., Chapter 3.

Dated: March 21, 2012.
Daniel E. Schank,
Acting Chief Cadastral Surveyor, California.

[FR Doc. 2012-8244 Filed 4-4-12; 8:45 am]

BILLING CODE 4310-40-P